COMMODITY FUTURES TRADING COMMISSION

Sunshine Act Meetings

TIME AND DATE: 10:30 a.m., Thursday, September 11, 2014.

PLACE: 1155 21st St. NW., Washington, DC, 9th Floor Commission Conference Room.

STATUS: Closed.

MATTERS TO BE CONSIDERED: Surveillance, Enforcement Matters, and Examinations. In the event that the times, dates, or locations of this or any future meetings change, an announcement of the change, along with the new time and place of the meeting will be posted on the Commission's Web site at http://www.cftc.gov.

CONTACT PERSON FOR MORE INFORMATION: Christopher J. Kirkpatrick, 202-418-5964.

Christopher J. Kirkpatrick,
Secretary of the Commission.

[FR Doc. 2014-21400 Filed 9-4-14; 4:15 pm]

BILLING CODE 6351-01-P